DEPARTMENT OF THE INTERIOR

Bureau of Land Management

[NV-930;1430-ES,N-57471,N-65782]

Notice of Realty Action; Recreation and Public Purposes (R&PP) Act Classification; Nevada

AGENCY: Bureau of Land Management, Interior.

ACTION: Notice of Realty Action.

SUMMARY: The following described public lands in Nye County, Nevada, have been examined and found suitable for conveyance to Nye County for recreational or public purposes under the provisions of the Recreation and Public Purposes Act, as amended (43 U.S.C. 869 et seq.). Nye County proposes to use the lands for a solid waste disposal site.

Mount Diablo Meridian, Nevada

T. 16 S., R. 49 E., section 25, lots 2 & 3, SW¼NE¼, SE¼NW¼, E½NW¼SW¼, E½NW¼NW¼SW¼, NE¼SW¼NW¼SW¼, S½SW¼NW¼SW¼, NE¼SW¼, NW¼SE¼.

Consisting of 243.9 acres.

The lands are not required for any Federal purpose. The conveyance is consistent with current Bureau planning for this area and would be in the public interest. Conveyance of these lands will be contingent upon Nye County obtaining an approved solid waste disposal permit from the Nevada Division of Environmental Protection. Should Nye County be denied a permit, the Bureau of Land Management (BLM) would not proceed with the conveyance of these lands. The patent or patents, when issued, will be subject to the following terms, conditions, and reservations:

1. Provisions of the Recreation and Public Purposes Act and to all applicable regulations of the Secretary of the Interior. The patentee shall comply with all Federal and State laws applicable to the disposal, placement or release of hazardous substances as defined in 40 CFR part 302, and indemnify the United States against any legal liability or future cost that may arise out of any violation of such laws.

2. A right-of-way thereon for ditches or canals constructed by the authority of the United States under the Act of August 30, 1890 (43 U.S.C. 945).

3. All minerals shall be reserved to the United States, together with the right to prospect for, mine, and remove the minerals.

4. All valid and existing rights documented on the official public land records at the time of patent issuance.

5. Any other reservations that the authorized officer determines appropriate to ensure public access and proper management of Federal lands and interest therein.

6. Provisions of the Resource Conservation and Recovery Act of 1976 (RCRA), as amended, 42 U.S.C. 6901-6987 and the Comprehensive Environmental Response, Compensation and Liability Act of 1980 (CERCLA), as amended, 42 U.S.C. 9601, and all applicable regulations.

Detailed information concerning this action is available for review at the office of the Bureau of Land Management, Las Vegas Field Office, 4765 W. Vegas Drive, Las Vegas, Nevada, 89108.

Upon publication of this notice in the Federal Register, the above described lands will be segregated from all other forms of appropriation under the public land laws, including the general mining laws, except for lease or conveyance under the Recreation and Public Purposes Act and leasing under the mineral leasing laws and disposal under the mineral material disposal laws. For a period of 45 days from the date of publication of this notice in the Federal Register, interested parties may submit comments regarding the proposed conveyance or classification of the lands to the Field Manager, Las Vegas Field Office, 4765 Vegas Drive, Las Vegas, Nevada 89108.

Classification Comments: Interested parties may submit comments involving the suitability of the land for a solid waste disposal site. Comments on the classification are restricted to whether the land is physically suited for a solid waste disposal site, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a solid waste disposal site.

Any adverse comments will be evaluated by the State Director who may sustain, vacate, or modify this realty action. In the absence of any adverse comments, the classification of the land described in this Notice will become effective 60 days from the date of publication in the Federal Register. The lands will not be offered for conveyance until after the classification becomes effective.

Dated: October 4, 2000.
Rex Wells,
Assistant Field Manager, Division of Lands, Las Vegas Field Office.

[FR Doc. 00-27168 Filed 10-20-00; 8:45 am]

BILLING CODE 1430-ES-U